DEPARTMENT OF TRANSPORTATION

National Highway Traffic Safety Administration

49 CFR Part 571

[Docket No. NHTSA 2004-17365]

RIN 2127-AG87

Federal Motor Vehicle Safety Standards; Lamps, Reflective Devices, and Associated Equipment

AGENCY: National Highway Traffic Safety Administration (NHTSA), DOT.

ACTION: Notice of withdrawal of proposed rulemaking.

SUMMARY: This document withdraws a 1998 notice of proposed rulemaking (NPRM) that would have amended the Federal motor vehicle safety standard on lighting to reorganize the sections related to headlighting. The intention of the rulemaking was to remove inconsistencies and to facilitate easy reference to the standard, in an effort to improve its comprehensibility. We have decided to terminate the rulemaking for the administrative rewrite of headlighting requirements, due to other regulatory priorities and limited agency resources.

FOR FURTHER INFORMATION CONTACT: The following persons at the NHTSA, 400 Seventh Street, SW., Washington, DC 20590.

For non-legal issues, you may call Mr. Richard VanIderstine, Office of Crash Avoidance Standards (Telephone: 202-366-2720) (Fax: 202-366-7002).

For legal issues, you may call Mr. Eric Stas, Office of Chief Counsel (Telephone: 202-366-2992) (Fax: 202-366-3820).

SUPPLEMENTARY INFORMATION:

I. Background

Federal Motor Vehicle Safety Standard (FMVSS) No. 108, Lamps, Reflective Devices, and Associated Equipment, establishes performance requirements for lighting-related equipment on new motor vehicles, as well as their location. The standard also covers replacement lighting equipment. The present version of FMVSS No. 108 represents over 30 years of accumulated amendments to the standard and the incorporation of numerous industry consensus standards. Consequently, the standard is lengthy, and requirements concerning a particular lighting device are sometimes found at different places within the standard, with the result being a heavy demand for interpretation of the standard by vehicle and equipment manufacturers, inventors, vehicle owners, and State agencies.

In order to simplify FMVSS No. 108 for users, NHTSA published an NPRM on November 12, 1998 proposing to reorganize the headlighting requirements under the standard (see 63 FR 63258; see also 64 FR 6021 (February 8, 1999) (notice extending comment period)). The proposed amendments were not intended to change the requirements of the standard, except in a few minor instances that were clearly identified and discussed. The NPRM included a set of “Drafting Guidelines” which discussed the rubric for the proposed administrative simplification, including inclusion of relevant lighting requirements in the text of the standard (i.e., minimizing incorporation by reference to outside standards), updating references to the most current version of the Society of Automotive Engineers (SAE) standard (whenever appropriate), elimination of past effective dates, and use of a single, consistent numbering scheme. A similar administrative rewrite for the non-headlighting provisions of FMVSS No. 108 was contemplated at a future point.

NHTSA received 13 comments on the 1998 NPRM. Most commenters were supportive of the agency's efforts to conduct an administrative rewrite of FMVSS No. 108's headlighting provisions, and numerous technical recommendations were provided.

II. Reason for Withdrawal

Our review of the public comments on the NPRM revealed that unexpected issues, substantive in character, would have to be addressed prior to publication of a final rule, and, as a result, significant additional analyses would be required. Consequently, completion of a final rule to simplify the headlighting provisions of FMVSS No. 108 would be more complicated and resource-intensive than previously anticipated. Although NHTSA continues to believe that an administrative rewrite of FMVSS No. 108 would be beneficial, we have concluded that, after a careful review of regulatory priorities, limited agency resources should be expended on other projects likely to produce a greater safety benefit.

The agency receives numerous congressional mandates and petitions for rulemaking from outside parties each year, so it is not possible to undertake all of the discretionary rulemaking activities that we identify. Accordingly, for the reasons discussed above, we are terminating this rulemaking activity at the present time and withdrawing the associated NPRM for a reorganization of the headlighting provisions of FMVSS No. 108.

Authority: 49 U.S.C. 322, 30111, 30115, 30117, and 30166; delegation of authority at 49 CFR 1.50.

Issued: March 19, 2004.
Stephen R. Kratzke,
Associate Administrator for Rulemaking.

[FR Doc. 04-6587 Filed 3-23-04; 8:45 am]

BILLING CODE 4910-59-P